ENVIRONMENTAL PROTECTION AGENCY

40 CFR Parts 52 and 81

[EPA-R07-OAR-2020-0155; FRL-10010-76-Region 7]

Air Plan Approval; Missouri and Kansas; Determination of Attainment for the Jackson County, Missouri 1-Hour Sulfur Dioxide Nonattainment Area and Redesignation of the Wyandotte County, Kansas Unclassifiable Area to Attainment/Unclassifiable

AGENCY: Environmental Protection Agency.

ACTION: Final rule.

SUMMARY: The Environmental Protection Agency (EPA) is taking final action to determine that the Jackson County, Missouri 1-hour (1-hr) Sulfur Dioxide (SO2) National Ambient Air Quality Standard (NAAQS) Nonattainment Area has attained the NAAQS and to redesignate the Wyandotte County, Kansas 1-hr SO2 NAAQS Unclassifiable Area as Attainment/Unclassifiable. Both final action decisions are based on air quality monitoring and modeling data.

DATES: This final rule is effective on July 9, 2020.

ADDRESSES: The EPA has established a docket for this action under Docket ID No. EPA-R07-OAR-2020-0155. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Steven Brown, Environmental Protection Agency, Region 7 Office, Air Quality Planning Branch, 11201 Renner Boulevard, Lenexa, Kansas 66219; telephone number (913) 551-7718; email address brown.steven@epa.gov.

SUPPLEMENTARY INFORMATION: Throughout this document “we,” “us,” and “our” refer to EPA.

Table of Contents

I. What is being addressed in this document?

II. The EPA's Response to Comments

III. What action is the EPA taking?

IV. Statutory and Executive Order Reviews

I. What is being addressed in this document?

This document takes final action on the Missouri Department of Natural Resources' (MoDNR) May 4, 2018 request asking the EPA to make a determination that the Jackson County, Missouri (hereby referred to as the “Jackson County area”) Nonattainment Area has attained the 2010 1-hr primary SO2 NAAQS.

This document also takes final action to redesignate the Wyandotte County, Kansas 1-hr SO2 NAAQS unclassifiable area (hereinafter referred to as the “Wyandotte County area”) to attainment/unclassifiable based on a January 10, 2017 request from the Kansas Department of Health and Environment (KDHE). Detailed information regarding these actions can be found in the proposed rule, 85 FR 20896, published April 15, 2020 in the Federal Register and in this docket.

II. The EPA's Response to Comments

The public comment period on the EPA's proposed rule opened April 15, 2020, the date of its publication in the Federal Register and closed on May 15, 2020. During this period, the EPA received one comment. This comment is not substantive and does not require a response from the EPA.

III. What action is the EPA taking?

The EPA is taking final action to determine that the Jackson County 2010 1-hr primary SO2 nonattainment area, in Missouri, has attained the 2010 1-hr primary SO2 NAAQS. This final determination of attainment is based on a May 2018 request from the Missouri Department of Natural Resources (MoDNR) asking the EPA to consider complete, quality assured, and certified ambient air monitoring data from the 2015-2017 monitoring period and make a determination that the area has attained the 2010 1-hr primary SO2 NAAQS.

The EPA is also taking final action to a January 2017 request from the Kansas Department of Health and Environment (KDHE) to redesignate the Wyandotte County, Kansas 1-hr SO2 NAAQS unclassifiable area to attainment/unclassifiable. The EPA's redesignation of the Wyandotte County area is based on air quality dispersion modeling submitted by the KDHE and supplemented by modeling analysis from the MoDNR for the Jackson County area. The relationship between the MoDNR's modeling analysis and the Wyandotte County area is explained in more detail in the “What is the EPA's Analysis of the Information Submitted by the States?” and “Connection to the Jackson County Clean Data Modeling” sections of the proposed rule, 85 FR 20896, published April 15, 2020. The EPA has made the monitoring and modeling data available in the docket to this rulemaking through www.regulations.gov.

IV. Statutory and Executive Order Reviews

This action makes a determination based on air quality monitoring data and modeling and results in the suspension of certain Federal requirements and does not impose any additional requirements.

With regard to the redesignation portion of this action, under the Clean Air Act (CAA), redesignation of an area to attainment/unclassifiable is an action that affects the air quality designation status of geographical areas and does not impose any regulatory requirements. For these reasons, this final action:

• Is not a significant regulatory action subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

This action does not apply on any Indian reservation land or in any other area where EPA or an Indian tribe has demonstrated that a tribe has jurisdiction. In those areas of Indian country, the action does not have tribal implications and will not impose substantial direct costs on tribal governments or preempt tribal law as specified by Executive Order 13175 (65 FR 67249, November 9, 2000).

List of Subjects

40 CFR Part 52

Environmental protection, Air pollution control, Clean data determination, Determination of attainment, Incorporation by reference, Redesignation, Reporting and recordkeeping requirements, Sulfur dioxide.

40 CFR Part 81

Environmental protection, Air pollution control.

Dated: June 16, 2020.
James Gulliford,
Regional Administrator, Region 7.

For the reasons stated in the preamble, the EPA amends 40 CFR parts 52 and 81 as set forth below:

PART 52—APPROVAL AND PROMULGATION OF IMPLEMENTATION PLANS

1. The authority citation for part 52 continues to read as follows:

Authority: 42 U.S.C. 7401 et seq.

Subpart—AA Missouri

2. In § 52.1343, revise paragraph (b) to read as follows:

§ 52.1343 Control strategy: Sulfur dioxide.

* * * * *

(b) Determination of attainment. EPA has determined, as of July 9, 2020, that the Jackson County 2010 SO2 nonattainment has attained the 2010 SO2 1-hr NAAQS. This determination suspends the requirements for this area to submit an attainment demonstration, associated reasonably available control measures, reasonable further progress, contingency measures, and other plan elements related to attainment of the standards for as long as the area continues to meet the 2010 SO2 1-hr NAAQS.

PART 81—DESIGNATION OF AREAS FOR AIR QUALITY PLANNING PURPOSES

3. The authority citation for part 81 continues to read as follows:

Authority: 42 U.S.C. 7401, et seq.

Subpart C—Section 107 Attainment Status Designations

4. In § 81.317, the table titled “Kansas-2010 Sulfur Dioxide NAAQS [Primary]” is amended by revising the entry “Wyandotte County, KS” to read as follows:

§ 81.317 Kansas.

* * * * *

Kansas—2010 Sulfur Dioxide NAAQS
[Primary]
Designated area ¹ | Designation: Date ² | Designation: Type
* * * * * * *
Wyandotte County, KS | July 9, 2020 | Attainment/Unclassifiable.
* * * * * * *
¹ Includes any Indian country in each county or area, unless otherwise specified. EPA is not determining the boundaries of any area of Indian country in this table, including any area of Indian country located in the larger designation area. The inclusion of any Indian country in the designation area is not a determination that the state has regulatory authority under the Clean Air Act for such Indian country.
² This date is April 9, 2018, unless otherwise noted.

* * * * *

[FR Doc. 2020-13376 Filed 7-8-20; 8:45 am]

BILLING CODE 6560-50-P